DEPARTMENT OF THE INTERIOR

National Park Service

Final Environmental Impact Statement and Fort Baker Plan, Golden Gate National Recreation Area, Marin County, California; Notice of Approved Record of Decision

SUMMARY: Pursuant to § 102 (2)(C) of the National Environmental Policy Act of 1969, Pub. L. 91-190, as amended, and the regulations promulgated by the Council on Environmental Quality (40 CFR 1505.2), the Department of the Interior, National Park Service (NPS) has prepared the Fort Baker Plan and Final Environmental Impact Statement (EIS) and approved a Record of Decision. This decision amends the 1980 Golden Gate National Recreation Area General Management Plan (GMP) as it pertains to Fort Baker, in accord with the “Proposed Action” alternative described and analyzed in the Fort Baker Plan Draft and Final EIS. The U.S. Department of Defense will transfer Fort Baker lands still under military ownership in 2001 to the NPS. The express intent of the selected Plan is to transform Fort Baker from a military installation to a new unit of the National Park System through a series of coordinated actions consistent with the National Park mission. The Fort Baker Plan Draft EIS was issued in October 1998 for a 60-day public review and comment period, and the Final EIS was released in October 1999. The 30-day no action period concluded on December 5, 1999.

Project Background

In general, Public Law 92-589 established the Golden Gate National Recreation Area (GGNRA) so as to preserve for public use and enjoyment many outstanding natural, historic, scenic, and recreational values, as well as to maintain needed recreational open space deemed scarce in the urban environment. In particular, and according to 16 USC 460bb(2), “* * * the easterly half of Fort Baker in Marin County, California shall remain under the jurisdiction of the Department of the Army. When the property is determined by the Department of Defense to be in excess of its needs, it shall be transferred to the jurisdiction of the Secretary for purposes of this Act.”

In 1995, the remaining military land at Fort Baker was determined to be excess to the needs of the military by the Department of Defense's Base Realignment and Closure Committee and was required to be transferred to the NPS, consistent with Public Law 92-589, by the year 2001.

The Fort Baker site includes a Historic District listed on the National Register of Historic Places, a marina and waterfront area, and open space, scenic, and natural areas including habitat for the federally listed endangered mission blue butterfly. The NPS must provide for the reuse of Fort Baker as a new unit of the National Park System consistent with the requirements of Public Law 92-589, and with the Organic Act of 1916 which established that:

The fundamental purpose of all units of the National Park Service is to conserve the scenery and the natural and historic objects and the wildlife therein and to provide for the enjoyment of the same in such manner and by such means as will leave them unimpaired for the enjoyment of future generations.

In keeping with these authorities, § 1.2 of the Final EIS stated that the over-arching purpose of the conservation planning and environmental impact analysis process was to identify: (i) A program and types of uses that would be accommodated in historic buildings and would generate adequate revenue for building rehabilitation and preservation; (ii) Public use improvements, including new construction and removal of buildings, landscape treatments, trails, parking, circulation, and locations and patterns of use; (iii) Waterfront improvements; (iv) Opportunities for habitat restoration; and (v) An approach to the protection, rehabilitation and maintenance of the historic and natural resources.

Alternatives Considered

Three “action” alternatives and a “no-action” alternative were analyzed in the Draft and Final EIS. The “action” alternatives were developed and refined through a public, three-year conservation planning and environmental impact analysis process and included, in addition to the selected action (described in the Draft and Final EIS as the Proposed Action), a 1980 GMP Alternative and an Office and Cultural Center Alternative.

The Selected Action envisions preserving historic structures and natural features through selection of compatible uses and rehabilitation, restoration and other site improvements. A conference and retreat center is to be created in historic buildings around the parade ground and in the adjacent nonhistoric Capehart area. This essential facility will be the smallest possible, economically viable complex capable of fulfilling Plan objectives (and will be designed to be compatible with the setting).

The Bay Area Discovery Museum is to be retained and expanded into historic buildings and new, compatibly designed structures within its campus. The Coast Guard Station will also be retained, and could accept a modest expansion for meeting-training space or staff quarters. The historic boat shop is to be used as a public center with meeting and program space, and supporting visitor amenities. The marina is to be converted to a public (non-membership) facility serving up to 60 boats through a combination of moorings-slips for day or overnight use. Docks are to be provided for the Coast Guard to use for mooring of disabled rescued boats, and for other NPS programs.

Restoration or enhancement of over 40 acres of natural habitat, including habitat for the federally endangered mission blue butterfly will be accomplished. The wooden bulkhead along the waterfront is to be removed and the beach restored, with an adjoining 6 acres of meadow, a picnic area and boardwalk. Fishing pier improvements include fish-cleaning stations, railings and benches. The batteries and other fortification structures are to be stabilized, preserved and interpreted (Battery Cavallo will be subject to a separate plan and environmental analysis). An NPS visitor center is to be established and an interpretive trail created from Lime Point along the waterfront, continuing as the San Francisco Bay Trail to East Road, Battery Duncan and the chapel.

The GMP Alternative was derived from the 1980 GMP. Key elements included: conference center to accommodate 350 people; a 200-bed youth hostel and artists-in-residence program in historic buildings around the Parade Ground; a 700-car parking lot serving a Marin Headlands shuttle (on a site created by removing 23 nonhistoric structures); and separate NPS maintenance facility and visitor center. The Bay Area Discovery Museum and Coast Guard Station would be retained with no features added. Historic boat shop and marina use would be similar to the Selected Action, with 50 slips provided for short-term public mooring. Historic fortifications would be preserved, and an environmental study and overnight campsite established near Battery Cavallo. Waterfront treatments would also be similar, though a more urban landscape is envisioned and a ferry landing would be installed at the fishing pier.

Under the Office and Cultural Center Alternative, the historic Parade Ground buildings would be used for offices, meeting and program space, performance space, and restaurant/food service space. Some nonhistoric residential structures would be used for residences, and others would be removed to provide parking for the center. The Bay Area Discovery Museum and Coast Guard expansion would be the same as under the Selected Action. The marina would be retained with both long-term and some short-term public mooring provided and public program and activity space provided in the boat shop. Treatment of the waterfront, fishing pier, open space, natural habitats and historic fortifications would be the same as under the Selected Action.

The No Action Alternative would continue existing management. Minimal repairs to existing historic structures, infrastructure and other facilities would occur. Historic residential buildings would be leased for residential use, and other historic buildings would remain vacant with minimal repair. No restoration of the cultural landscape (or beach and waterfront area) and no new mission blue butterfly habitat work would be undertaken. Although visitor use effects (traffic, air emissions, etc.) could be lower under this alternative, benefits of the other “action” alternatives associated with habitat restoration, preservation and restoration of historic resources and the cultural landscape, recreational use and enjoyment by the American public, and beneficial visual effects would not occur.

Public Involvement

Following the 1995 closure announcement, the NPS initiated a public planning effort to develop concepts for future use and preservation of the site and its resources. Beginning December 1995, a framework for the planning process was developed in consultation with local planning agencies and the public, and then presented to the GGNRA Advisory Commission in January 1996 for additional comment.

The public scoping phase was formalized through a notice published in the Federal Register on August 19, 1997. The scoping phase included an evaluation of the 1980 GMP so as to refine goals and objectives for a new Fort Baker Plan. The original vision for land uses and programs was reviewed within the context of current site conditions and new recreational and educational uses which were emerging. The originally envisioned land uses were scaled back, and some uses eliminated, with the intent of more effectively protecting the site's resources.

A Notice of Intent to prepare an EIS was published in the Federal Register on May 4, 1998. Over 50 public meetings, workshops, site tours, and hearings were held over the course of the EIS process. Thousands of public notices, planning updates and public input surveys were distributed to foster active public participation in developing and evaluating alternatives for the Fort Baker Plan. Various management concepts were assessed, and three “action” alternatives were carried forward for detailed evaluation in the EIS. Opportunities for public participation were also afforded through Draft EIS meetings, open houses, and presentations. Planning updates and opportunities for public comment were also provided at more than 10 publicly noticed meetings of the GGNRA Advisory Commission.

During the 60-day public review period for the Draft EIS, 127 letters, e-mail messages, and oral comments at the November 18, 1998 GGNRA Advisory Commission were received. The NPS reviewed all comments, and integrated many of the public's recommendations into the Final EIS. Additional analysis of issues of concern and new or/and more refined mitigation measures were developed and included in the Final EIS in response to public comment.

The Final EIS was released on October 15, 1999, with over 200 copies distributed to interested members of the public and other agencies (it was available in paper and electronic format and posted on the park's website). The EPA notice of filing for the Final EIS appeared in the November 5, 1999 Federal Register, marking the beginning of the required 30-day no action period.

During this phase, an overview of the Final EIS was presented on November 16, 1999 to the GGNRA Advisory Commission. Of 28 people who provided oral comments, 20 people favored the Proposed Action and the public planning process used by the NPS to develop and refine the Fort Baker Plan EIS. Speakers included individuals and representatives of the National Parks and Conservation Association, the National Trust for Historic Preservation, Marin Heritage, and the Bay Area Discovery Museum. Six people, including the chair of the Sausalito Citizens' Task Force for Fort Baker, opposed the retreat and conference center component, and expressed concerns related to traffic and potential effects upon the character of the site and its resources. One representative of the Tomales Bay Asociation supported development of a youth hostel (included in the GMP Alternative).

In addition, ten letters and 15 e-mail messages expressed opinions regarding the Fort Baker Plan. Four of the letters were in general support of the public planning process and/or the Proposed Action. The San Francisco Bay Conservation and Development Commission acknowledged consistency with the San Francisco Bay Plan. The City of Sausalito expressed concerns for potential impacts of the proposed plan and various compliance issues. The local sanitary district concurred with the EIS analysis and conclusions regarding wastewater capacity but requested that the existing agreement for these services at Fort Baker (and NPS future rights to such services) be revisited. The e-mail messages primarily expressed opposition to the conference and retreat center component, mostly based upon size. One message expressed concern related to bicycle safety. Post card mailings in support and in opposition to the plan were also received during the 30-day no action period.

After the 30-day no action period concluded several letters, as well as postcards and e-mail messages similar to those described above were received. All submittals received during the entire conservation planning and environmental impact analyis process are addressed in the Record of Decision.

Basis for Decision

The environmentally preferred alternative was the Proposed Action. The maximum potential environmental impacts of new uses and site improvements, as analyzed in the in EIS, were limited based upon build-out of a 350-room retreat and conference center. However, in the Record of Decision the NPS commits to soliciting the smallest possible, economically feasible retreat and conference center proposal that fulfills objectives of the Fort Baker Plan.

During the conservation planning and environmental impact analysis process, the NPS, working with the public, established goals and objectives that were used as a framework for evaluating potential new uses and site improvements at Fort Baker. These were developed based on NPS policy, the 1980 GMP, public input, current knowledge about the site, and an understanding of Fort Baker's national park qualities. The Purpose and Need (§ 1.3 of the EIS) addressed the following goals: (i) Promote the National Park mission; (ii) Achieve sustainability; (iii) Retain and relate to the site's special qualities; (iv) Promote public access; (v) Minimize environmental impacts; (vi) Retain and complement permanent site tenants and other GGNRA sites and programs.

The basis for the decision to select the “Proposed Action” is its ability to most successfully maximize all the goals and objectives disclosed at the beginning of the conservation planning and environmental impact analysis process. The Selected Action provides the most desirable combination of promoting the National Park mission and public use, while preserving the site's resources and contemplative atmosphere and minimizing environmental effects including traffic.

Measures To Minimize Harm

Numerous practical mitigation measures to minimize or avoid potential adverse effects of the Selected Action are identified. As a result of public collaboration in developing the Fort Baker Plan, new measures were developed and safeguards initially noted in the Draft EIS were refined to be more stringent in the Final EIS. One of the new stipulations relates to the size of the proposed retreat and conference center—in response to public concern about the 350 room maximum size evaluated, the NPS is now committed to working with the public in soliciting the smallest possible, economically viable retreat and conference center proposal that fulfills Plan objectives. Additional mitigations recommended by the public or other agencies, or developed by the NPS in response to issues of local concern, were added in the Final EIS. In total, more than 70 mitigation measures have been included.

Moreover, the NPS is committed to seeking and implementing innovative approaches to reduce long-term dependence on automobile use at Fort Baker, to working cooperatively with other agencies to seek regional solutions to transportation challenges in the areas surrounding Fort Baker, and to engaging in studies to reduce or eliminate parking and uncontrolled automobile traffic within Fort Baker. The NPS is specifically committed to working with the City of Sausalito, the Marin County Congestion Management Agency, the Golden Gate Bridge, Highway and Transportation District, Caltrans, and the Metropolitan Transportation Commission.

Copy of Complete Decision Available

The synopsis provided above addresses only some of the considerations made in selecting, as the final Fort Baker Plan, the alternative identified as the “Proposed Action” in the Draft and Final EIS. Effecting the Fort Baker Plan will not impair park resources or values. Indeed, acting upon this Plan will significantly enhance the site's natural and cultural resources. A copy of the Record of Decision may be requested from the Superintendent, Golden Gate National Recreation Area, Building 201, Ft. Mason, San Francisco, CA 94123 (or may be obtained via www.nps.gov/goga). The Superintendent is responsible for plan implementation.

Dated: June 15, 2000.
James R. Shevock,
Acting Regional Director, Pacific West Region.

[FR Doc. 00-15730 Filed 6-21-00; 8:45 am]

BILLING CODE 4310-70-P